DEPARTMENT OF TRANSPORTATION

National Highway Traffic Safety Administration

Denial of Motor Vehicle Recall Petition

AGENCY: National Highway Traffic Safety Administration (NHTSA), Department of Transportation.

ACTION: Denial of petition for an investigation into the adequacy of a safety recall.

SUMMARY: This notice sets forth the reasons for the denial of a petition submitted to NHTSA under 49 U.S.C. 30120(e) by Ms. Angelique Trowbridge, requesting that the agency commence a proceeding to determine the adequacy of the remedy utilized by Ford Motor Company (Ford) to address a safety-related defect in Ford Safety Recall 04S13 (NHTSA 04V-165). After a review of the petition and other information, NHTSA has concluded that further expenditure of the agency's investigative resources on the issues raised by the petition does not appear warranted. The agency accordingly has denied the petition. The petition is hereinafter identified as RP04-002.

FOR FURTHER INFORMATION CONTACT: Mr. Thomas Z. Cooper, Chief, Vehicle Integrity Division, Office of Defects Investigation (ODI), NHTSA, 400 Seventh Street, SW., Washington, DC 20590. Telephone: (202) 366-5218.

SUPPLEMENTARY INFORMATION: On June 22, 2004, NHTSA received a letter from Ms. Trowbridge requesting that the agency investigate the adequacy of the remedy used by Ford in Safety Recall 04S13 (NHTSA 04V-165). The petitioner alleges that the recall remedy is inadequate and, as evidence, states that after having the recall remedy performed on her model year (MY) 2001 Ford Escape, it did not resolve the stalling condition.

On April 5, 2004, Ford filed a Defect Information Report concerning intermittent closed throttle engine stalling in 321,903 MY 2001-2003 Ford Escape vehicles equipped with 3.0L V6 engines, manufactured between January 31, 2000 and September 11, 2002. Ford reported that an intermittent engine stalling condition is prevalent in these vehicles when the vehicle is in a closed throttle deceleration at speeds of 40 mph and below. The recall remedy involved reprogramming the calibration of the vehicle's Powertrain Control Module (PCM) to correct a rich air/fuel mixture, thereby allowing the engine to operate without experiencing a closed throttle, deceleration-stalling event.

Following receipt of the petition, on July 1, 2004, the Office of Defects Investigation (ODI) sent an information request to Ford to obtain relevant information. Ford's July 23, 2004 response indicates that less than 0.1 percent of vehicle owners who have had the recall remedy performed have reported additional deceleration stalling issues. Ford also states that the PCM has to “learn” the new program and that any subsequent stalling would be temporary. To verify Ford's claim, ODI conducted a random survey of 20 complainants who had the remedy performed on their vehicles and who experienced a subsequent stalling event. ODI found that most of them had isolated stalling problems, supporting Ford's allegation that the PCM must “learn” the new program.

In addition, in a phone conversation with ODI, the petitioner stated that a Ford engineer found a faulty ignition switch as the cause of the stalling in her vehicle. Thus, there is no evidence at this time to suggest that the recall remedy is inadequate.

For the foregoing reasons, further expenditure of the agency's investigative resources on the issues raised by the petition does not appear to be warranted. Therefore, the petition is denied.

Authority: 49 U.S.C. 30120(e); delegations of authority at CFR 1.50 and 501.8.

Kenneth N. Weinstein,
Associate Administrator for Enforcement.

[FR Doc. 04-19568 Filed 8-26-04; 8:45 am]

BILLING CODE 4910-59-P